DEPARTMENT OF DEFENSE

Department of the Army

Environmental Impact Statement for Follow-On Tests Including Design, Construction and Operation of One or More Pilot Test Facilities for Assembled Chemical Weapon Destruction Technologies at One or More Sites

AGENCY: Program Manager, Assembled Chemical Weapons Assessment, Department of Defense.

ACTION: Notice of intent.

SUMMARY: This announces the Army's intent to prepare an Environmental Impact Statement on the potential impacts of the design, construction and operation of one or more pilot test facilities for assembled chemical weapon destruction technologies at one or more chemical weapons stockpile sites, potentially simultaneously with any existing demilitarization programs and schedules at these sites. The size of the pilot tests and the location of the test facilities will be determined in this process.

DATES: Written comments must be received not later than May 30, 2000 in order to be considered in the Draft Environmental Impact Statement.

ADDRESSES: Written comments may be forwarded to the Program Manager Assembled Chemical Weapons Assessment, Public Affairs, Building E-5101, Room 219, 5183 Blackhawk Road, Aberdeen Proving Ground, MD 21010-5424.

FOR FURTHER INFORMATION CONTACT: Ms. Ann Gallegos at 410-436-4345, by fax at 410-436-5297, or via email at ann.gallegos@sbccom.apgea.army.mil, or Program Manager Assembled Chemical Weapons Assessment, Public Affairs, Building E-5101, Room 212, 5183 Blackhawk Road, Aberdeen Proving Ground, MD 21010-5424.

SUPPLEMENTARY INFORMATION: This proposed action continues the process that began when Congress established the Assembled Chemical Weapons Assessment Program through passage of Public Law 104-208. The authorizing legislation instructed the Department of Defense to identify and demonstrate alternatives to baseline incineration for the destruction of assembled chemical weapons. Baseline incineration is the technology and process in place at the Johnston Atoll in the Pacific and at Deseret Chemical Depot in Utah. Assembled chemical weapons are munitions containing both chemical agents and explosives that are stored in the United States unitary chemical weapons stockpile. This includes rockets, projectiles, and mines. Unitary agents include chemical blister agents (e.g., the mustard H, HD, and HT) and chemical nerve agents (e.g.,GB (Sarin) and VX).

With the National Defense Appropriations Act for Fiscal Year 1999, Congress directed the Program Manager, Assembled Chemical Weapons Assessment to plan for the pilot testing of alternatives technologies.

While all of the chemical stockpile sites were initially believed to be potential test sites, Edgewood Chemical Activity in Maryland, Newport Chemical Depot in Indiana, and Johnston Atoll in the Pacific Ocean have been eliminated from any consideration. Chemical stockpile sites at Edgewood and Newport will not be considered because no assembled chemical weapons are at those locations. Johnston Atoll will not be considered because all chemical weapons at the site will be destroyed before the National Environmental Policy Act analysis can be completed.

Sites at Anniston Chemical Activity in Alabama, Pine Bluff Chemical Activity in Arkansas, Pueblo Chemical Depot in Colorado, and Blue Grass Chemical Activity in Kentucky are being considered. Deseret Chemical Depot in Utah and Umatilla Chemical Depot in Oregon are not currently being considered because the current schedule for those plants indicates that the assembled chemical weapons will be destroyed prior to the time that a pilot facility would be ready to operate. If new information indicates that assembled chemical weapons in sufficient quantity will remain at these sites, then placement of the pilot facility at those sites will be analyzed.

Technologies under consideration include a variety of processes, such as, chemical neutralization, biological treatment, and supercritical water oxidation. The Program Manager, Assembled Chemical Weapons Assessment pilot tests will not halt or delay the operation or construction of any baseline incineration facility currently in progress. Transportation of assembled chemical weapons between stockpile sites is precluded by public law and will not be considered.

Alternatives that will be considered in the Environmental Impact Statement are: (a) No action, (b) pilot test of chemical neutralization followed by super critical water oxidation, and (c) pilot test of chemical neutralization followed by biological treatment.

There is a second Notice of Intent, entitled “Notice of Intent to Prepare an Environmental Impact Statement for the Design, Construction, and Operation of a Facility for the Destruction of Chemical Agent at Pueblo Chemical Depot, Colorado.” The focus of this complementary Environmental Impact Statement will be specifically on what technology should be used for the destruction of the chemical weapons stockpile at Pueblo Chemical Depot. The focus of the Assembled Chemical Weapons Assessment Environmental Impact Statement is on whether or not pilot testing of any Assembled Chemical Weapons Assessment technology should be conducted, and if so where, but it will leave to the Pueblo Chemical Depot Environment Impact Statement the question whether a full-scale facility operated initially as a pilot facility should be constructed to destroy the stockpile at that location. The emphasis for the Assembled Chemical Weapons Assessment document is to consider Assembled Chemical Weapons Assessment technologies and the various stockpile sites that may be suitable for conducting pilot tests, considering such factors as existing facilities, resource requirements for each technology and the ability of the site to provide those resources, munitions configurations and availability at each site at the time actual testing would begin. At the conclusion of both these Environmental Impact Statements, the same officials will issue The Records of Decision.

During scoping meetings, the Program Manager, Assembled Chemical Weapons Assessment is seeking to identify significant issues related to the proposed action. The Program Manager, Assembled Chemical Weapons Assessment desires information on: (1) The potential chemical weapons stockpile sites and surrounding areas, (2) concerns regarding the testing and/or operation of multiple technologies at these sites, (3) issues regarding the scale of the pilot test facilities, and (4) specific concerns regarding any potential technologies. Individuals or organizations may participate in the scoping process by written comment or by attending public meetings to be held in Alabama, Arkansas, Colorado, Kentucky and the Washington, DC metropolitan area. The dates, times, and locations of these meetings will be provided at least 15 days in advance by public notices in the news media serving the regions where the meeting will be located. The public meeting in Colorado will be held in conjunction with the public meeting on the site-specific Environmental Impact Statement.

Dated: April 10, 2000.
Raymond J. Fatz,
Deputy Assistant Secretary of the Army, (Environment, Safety, and Occupational Health) OASA (I&E).

[FR Doc. 00-9336 Filed 4-13-00; 8:45 am]

BILLING CODE 3710-08-M